NUCLEAR REGULATORY COMMISSION

[NRC-2017-0091]

Regulatory Analysis Guidelines

AGENCY: Nuclear Regulatory Commission.

ACTION: Draft NUREG appendices; request for comment.

SUMMARY: The U.S. Nuclear Regulatory Commission (NRC) is issuing for public comment four draft appendices to NUREG/BR-0058, Revision 5, “Regulatory Analysis Guidelines of the U.S. Nuclear Regulatory Commission.” The guidance provided in the draft appendices refines the information the staff uses when performing a cost-benefit analysis and addresses emergent policy issues and guidance enhancements. The draft appendices also incorporate pertinent information from NUREG/BR-0184, “Regulatory Analysis Technical Handbook.” A description of each draft appendix is provided in the Discussion section of this document.

DATES: Submit comments by June 15, 2021. Comments received after this date will be considered if it is practical to do so, but the NRC is able to ensure consideration only for comments received before this date.

ADDRESSES: You may submit comments by any of the following methods; however, the NRC encourages electronic comment submission through the Federal Rulemaking website:

• Federal Rulemaking website: Go to https://www.regulations.gov and search for Docket ID NRC-2017-0091. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Pamela Noto, Office of Nuclear Material Safety and Safeguards, U.S. Nuclear Regulatory Commission, Washington, DC 20555-0001; telephone: 301-415-6795; email: Pamela.Noto@nrc.gov.

SUPPLEMENTARY INFORMATION:

I. Obtaining Information and Submitting Comments

A. Obtaining Information

Please refer to Docket ID NRC-2017-0091 when contacting the NRC about the availability of information for this action. You may obtain publicly available information related to this action by any of the following methods:

• Federal Rulemaking website: Go to https://www.regulations.gov and search for Docket ID NRC-2017-0091.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

• Attention: The PDR, where you may examine and order copies of public documents, is currently closed. You may submit your request to the PDR via email at pdr.resource@nrc.gov or call 1-800-397-4209 between 8:00 a.m. and 4:00 p.m. (EST), Monday through Friday, except Federal holidays.

B. Submitting Comments

The NRC encourages electronic comment submission through the Federal Rulemaking website (https://www.regulations.gov). Please include Docket ID NRC-2017-0091 in your comment submission.

The NRC cautions you not to include identifying or contact information that you do not want to be publicly disclosed in your comment submission. The NRC will post all comment submissions at https://www.regulations.gov and will enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

The draft appendices to NUREG/BR-0058, Revision 5 address guidance enhancements for further consideration that were identified in SECY-14-0143, “Regulatory Gap Analysis of the Nuclear Regulatory Commission's Cost-Benefit Regulations, Guidance, and Practices,” and incorporates pertinent information from NUREG/BR-0184.

Appendix F, “Data Sources,” provides guidance on the processes needed to collect and analyze data, as well as data types, sources, and adjustment techniques. It also (1) identifies sources of information that can be collected to support data analysis activities, (2) describes various methods of adjusting raw data to establish a common basis, and (3) discusses the importance of collecting historical cost and non-cost data to support parametric estimating techniques.

Appendix G, “Regulatory Analysis Methods and Data for Nuclear Facilities Other Than Power Reactors,” documents established approaches and data considerations for use in performing non-power reactor regulatory analyses. This appendix provides supplemental information for performing a regulatory analysis for non-power reactor facilities and activities, including fuel fabrication facilities, independent spent fuel storage installations, irradiators, high-level waste repositories, and uses of byproduct material.

Appendix H, “Severe Accident Risk Analysis,” provides guidance and best practices recommended for use in performing probabilistic risk assessments and consequence analyses as part of regulatory and backfit analyses for nuclear power reactors. This appendix expands upon guidance regarding the safety goal evaluation and valuation of public health (accident) and economic consequences (offsite property) attributes. It provides references on sources of information and an overview of the tools and methods used to estimate changes in core damage frequency, large early release frequency, public health risk, and offsite economic consequences risk.

Appendix I, “National Environmental Policy Act Cost-Benefit Analysis,” describes the methods to be used in preparing cost-benefit analyses in support of the NRC's regulatory and licensing actions conducted under the National Environmental Policy Act, including evaluations of severe accident mitigation alternatives and severe accident mitigation design alternatives.

III. Availability of Documents

The documents identified in the following table are available to interested persons as indicated.

Document | ADAMS Accession No.
Draft NUREG/BR-0058, Revision 5, Appendix F, “Data Sources” | ML21096A292.
Draft NUREG/BR-0058, Revision 5, Appendix G, “Regulatory Analysis Methods and Data for Nuclear Facilities Other Than Power Reactors” | ML21096A293.
Draft NUREG/BR-0058, Revision 5, Appendix H, “Severe Accident Risk Analysis” | ML21096A294.
Draft NUREG/BR-0058, Revision 5, Appendix I, “National Environmental Policy Act Cost-Benefit Analysis” | ML21096A295.
NUREG/BR-0058, Revision 5, “Regulatory Analysis Guidelines of the U.S. NRC” | ML17101A355 (Package).
NUREG/BR-0184, “Regulatory Analysis Technical Evaluation Handbook” | ML050190193.
SECY-14-0143, “Regulatory Gap Analysis of the NRC's Cost-Benefit Guidance and Practices,” December 16, 2014 | ML14280A426 (Package).

Dated: April 12, 2021.
For the Nuclear Regulatory Commission.
Kevin A. Coyne,
Acting Director, Division of Rulemaking, Environmental, and Financial Support, Office of Nuclear Material Safety and Safeguards.

[FR Doc. 2021-07815 Filed 4-15-21; 8:45 am]

BILLING CODE 7590-01-P